DEPARTMENT OF DEFENSE

Office of the Secretary

[Docket ID: DoD-2015-HA-0040]

Proposed Collection; Comment Request

AGENCY: Office of the Assistant Secretary of Defense for Health Affairs, DoD.

ACTION: Notice.

SUMMARY: In compliance the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 6, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the TRICARE Dental Care Office, Health Plan Execution and Operation, Defense Health Agency (DHA), Rm. 3M451, ATTN: COL Colleen C. Shull, Falls Church, VA 22042 or call (703) 681-9517, DSN 761.

SUPPLEMENTARY INFORMATION:

Title; Associated Form; and OMB Number: Active Duty Dental Program (ADDP) Claim Form; OMB Control Number 0720-0053.

Needs and Uses: The information collection is necessary to obtain and record the dental readiness of Service Members using the Active Duty Dental Program (ADDP) and at the same time submit the claim for the dental procedures provided so that claims can be processed and reimbursement made to the provider. Many Service Members are not located near a military dental treatment facility and receive their dental care in the private sector.

Affected Public: Business or other for profit institutions; Not-for-profit institutions.

Annual Burden Hours: 25,000.

Number of Respondents: 75,000.

Responses per Respondent: 4.

Average Burden per Response: 5 minutes.

Frequency: On occasion.

Respondents are dental providers who submit claims in order to be reimbursed for delivered dental care. The ADDP Claim form allows civilian dental providers to submit the claim for dental procedures provided to active duty service members and to update their dental readiness classification at the same time. The completed form is forwarded to the ADDP contractor, United Concordia Companies, Inc. for reimbursement and the electronic update of the dental readiness. If the form is not available, civilian providers will not have a mechanism to submit dental claims with the information required for reimbursement to provide an updated dental readiness classification for the member. Dental readiness classification allows the Services to ensure that all Service Members are ready for worldwide deployment. Dental readiness is an integral part of medical readiness, and medical readiness is fundamental to the readiness of our forces.

Dated: April 30, 2015.
Aaron Siegel,
Alternate OSD Federal Register Liaison Officer, Department of Defense.

[FR Doc. 2015-10513 Filed 5-5-15; 8:45 am]

BILLING CODE 5001-06-P